DEPARTMENT OF COMMERCE

Foreign-Trade Zones Board

[B-5-2024]

Foreign-Trade Zone 116; Application for Expansion of Subzone 116F; Port Arthur LNG, LLC; Port Arthur and Jefferson County, Texas

An application has been submitted to the Foreign-Trade Zones (FTZ) Board by the Foreign-Trade Zone of Southeast Texas, Inc., grantee of FTZ 116, requesting an expansion of Subzone 116F on behalf of Port Arthur LNG, LLC. The application was submitted pursuant to the provisions of the Foreign-Trade Zones Act, as amended (19 U.S.C. 81a-81u), and the regulations of the FTZ Board (15 CFR part 400). It was formally docketed on January 18, 2024.

The applicant is requesting authority to expand Subzone 116F to include a new site located at 3750 South Gulfway Drive in Port Arthur (Site 3, 25.089 acres). No additional authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is March 4, 2024. Rebuttal comments in response to material submitted during the foregoing period may be submitted during the subsequent 15-day period to March 18, 2024.

A copy of the application will be available for public inspection in the “Online FTZ Information Section” section of the FTZ Board's website, which is accessible via www.trade.gov/ftz.

For further information, contact Camille Evans at Camille.Evans@trade.gov.

Dated: January 18, 2024.
Elizabeth Whiteman,
Executive Secretary.

[FR Doc. 2024-01236 Filed 1-22-24; 8:45 am]

BILLING CODE 3510-DS-P